DEPARTMENT OF THE INTERIOR

Bureau of Ocean Energy Management

[MMAA104000]

Environmental Documents Prepared for Oil, Gas, and Mineral Operations by the Gulf of Mexico Outer Continental Shelf (OCS) Region

AGENCY: Bureau of Ocean Energy Management (BOEM), Interior.

ACTION: Notice of the Availability of Environmental Documents Prepared for OCS Mineral Proposals by the Gulf of Mexico OCS Region.

SUMMARY: BOEM, in accordance with Federal Regulations that implement the National Environmental Policy Act (NEPA), announces the availability of NEPA-related Site-Specific Environmental Assessments (SEAs) and Findings of No Significant Impact (FONSIs). These documents were prepared during the period April 1, 2013, through June 30, 2013, for oil, gas, and mineral-related activities that were proposed in the Gulf of Mexico, and are more specifically described in the Supplementary Information Section of this notice.

FOR FURTHER INFORMATION CONTACT: Bureau of Ocean Energy Management, Gulf of Mexico OCS Region, Attention: Public Information Office (GM 250E), 1201 Elmwood Park Boulevard, Room 250, New Orleans, Louisiana 70123-2394, or by calling 1-800-200-GULF.

SUPPLEMENTARY INFORMATION: BOEM prepares SEAs and FONSIs for certain proposals that relate to exploration, development, production, and transport of oil, gas, and mineral resources on the Federal OCS. These SEAs examine the potential environmental effects of proposed activities and present BOEM conclusions regarding the significance of those effects. The SEAs are used as a basis for determining whether or not approval of the proposals constitutes a major Federal action that significantly affects the quality of the human environment in accordance with NEPA Section 102(2)(C). A FONSI is prepared in those instances where BOEM finds that approval will not result in significant effects on the quality of the human environment. The FONSI briefly presents the basis for that finding and includes a summary or copy of the SEA.

This notice constitutes the public notice of availability of environmental documents as required under the NEPA Regulations.

Activity/operator | Location | Date
ATP Oil & Gas Corporation, Structure Removal, SEA ES/SR 13-094 | Brazos, Block 544, Lease OCS-G 10226, located 31 miles from the nearest Texas shoreline | 01-Apr-13.
ATP Oil & Gas Corporation, Structure Removal, SEA ES/SR 13-092 | South Timbalier, Block 76, Lease OCS-G 04460, located 25 miles from the nearest Louisiana shoreline | 01-Apr-13.
EPL Oil & Gas, Inc., Structure Removal, SEA ES/SR 13-091 | Eugene Island, Block 247, Lease OCS-G 21111, located 57 miles from the nearest Louisiana shoreline | 02-Apr-13.
LLOG Exploration Offshore, L.L.C., Exploration Plan, SEA R-5839 | Mississippi Canyon, Block 258, Lease OCS-G 24066, located 62 miles from the nearest Louisiana shoreline | 02-Apr-13.
EMGS Americas LP, Geological & Geophysical Survey, SEA L13-004 | Central Planning Area of the Gulf of Mexico | 04-Apr-13.
Walter Oil & Gas Corporation, Exploration Plan, SEA R-5840 | Central Planning Area of the Gulf of Mexico | 04-Apr-13.
Chevron U.S.A. Inc., Geological & Geophysical Survey, SEA L13-003 | Central Planning Area of the Gulf of Mexico, located 198 miles from the nearest shoreline | 04-Apr-13.
Pisces Energy LLC, Structure Removal, SEA ES/SR 11-330 & 11-331 | Eugene Island, Block 53, Lease OCS-G 00479, located 14 miles from the nearest Louisiana shoreline | 04-Apr-13.
McMoRan Oil & Gas LLC, Structure Removal, SEA ES/SR 13-084 | West Cameron, Block 294, Lease OCS-G 04090, located 28 miles from the nearest Louisiana shoreline | 04-Apr-13.
Shell Offshore Inc., Exploration Plan, SEA R-5856 | Central Planning Area of the Gulf of Mexico, located 82 miles south of the nearest Louisiana shoreline | 05-Apr-13.
Chevron U.S.A. Inc., Exploration Plan, SEA R-5845 | Central Planning Area of the Gulf of Mexico, located 221 miles south of the nearest Louisiana shoreline | 08-Apr-13.
TESLA Offshore, LLC, Geological & Geophysical Survey, SEA L13-008 | Central Planning Ares of the Gulf of Mexico | 08-Apr-13.
ATP Oil & Gas Corporation, Structure Removal, SEA ES/SR 13-095 | South Timbalier, Block 77, Lease OCS-G 04827, located 19 miles from the nearest Louisiana shoreline | 09-Apr-13.
Anadarko Petroleum Corporation, Exploration Plan, SEA R-5853 | Central Planning Area of the Gulf of Mexico, located 224 miles from the nearest Louisiana shoreline | 10-Apr-13.
White Oak Operating Company, L.L.C., Structure Removal, SEA ES/SR 13-105 | Chandeleur, Block 3, Lease OCS-G 25041, located 4 miles from the nearest Louisiana shoreline | 11-Apr-13.
Fairfield Nodal, Geological & Geophysical Survey, SEA L12-003 | Main Pass & Mississippi Canyon in the Central Planning Area of the Gulf of Mexico | 11-Apr-13.
Energy XXI GOM, LLC, Structure Removal, SEA ES/SR 13-074 | South Timbalier, Block 21, Lease OCS 00263, located 5 miles from the nearest Louisiana shoreline | 11-Apr-13.
Hilcorp Energy GOM, LLC, Structure Removal, SEA ES/SR 13-101 | Vermilion, Block 39, Lease OCS 00206, located 10 miles from the nearest Louisiana shoreline | 11-Apr-13.
Pisces Energy LLC, Structure Removal, SEA ES/SR 13-100 | West Cameron, Block 081, Lease OCS-G 01477, located 24 miles from the nearest Louisiana shoreline | 11-Apr-13.
Cobalt International Energy, L.P., Exploration Plan, SEA R-5848 | Central Planning Area of the Gulf of Mexico, located 137 miles south of the nearest Louisiana shoreline | 15-Apr-13.
Century Exploration New Orleans, LLC, Structure Removal, SEA ES/SR 11-046 | West Cameron, Block 369, Lease OCS-G 00301, located 58 miles from the nearest Louisiana shoreline | 15-Apr-13.
Shell Offshore Inc., Development Operations Coordination Document, SEA R-5746 | Mississippi Canyon, Block 934, Lease OCS-G 07975, located 61 miles from the nearest Louisiana shoreline | 17-Apr-13.
Century Exploration New Orleans, LLC, Structure Removal, SEA ES/SR 10-194 | Ship Shoal, Block 153, Lease OCS-G 18011, located 29 miles from the nearest Louisiana shoreline | 17-Apr-13.
White Oak Operating Company, L.L.C., Structure Removal, SEA ES/SR 13-104 | Viosca Knoll, Block 20, Lease OCS-G 25047, located 7 miles from the nearest Louisiana shoreline | 17-Apr-13.
Shell Offshore Inc., Exploration Plan, SEA S-7599 | Walker Ridge, Block 508, Lease OCS-G 17001, located 178 miles from the nearest Louisiana shoreline | 17-Apr-13.
McMoRan Oil & Gas LLC, Structure Removal, SEA ES/SR 13-087 | Brazos, Block 504, Lease OCS-G 20616, located 32 miles from the nearest Texas shoreline | 18-Apr-13.
Apache Corporation, Structure Removal, SEA ES/SR 13-109 | Ship Shoal, Block 68, Lease OCS-G 02917, located 6 miles from the nearest Louisiana shoreline | 18-Apr-13.
EP Energy E&P Company, L.P., Structure Removal, SEA ES/SR 13-108 | West Cameron, Block 150, Lease OCS 00254, located 23 miles from the nearest Louisiana shoreline | 18-Apr-13.
Peregrine Oil & Gas, LP, Structure Removal, SEA ES/SR 13-067 | West Delta, Block 64, Lease OCS-G 25008, located 18 miles from the nearest Louisiana shoreline | 18-Apr-13.
Stone Energy, Exploration Plan, SEA N-9684 | Mississippi Canyon, Block 26, Lease OCS-G 31474, located 23 miles from the nearest shoreline in Plaquemines Parish, Louisiana | 19-Apr-13.
CGGVeritas Services (US) Inc., Geological & Geophysical Survey, SEA L13-011 | Central Planning Area of the Gulf of Mexico | 22-Apr-13.
Fairfield Nodal, Inc., Geological & Geophysical Survey, SEA L13-010 | Central Planning Area of the Gulf of Mexico | 22-Apr-13.
Mariner Energy Resources, Inc., Structure Removal, SEA ES/SR 13-113 | High Island, Block 116, Lease OCS-G 06156, located 25 miles from the nearest Louisiana shoreline | 22-Apr-13.
Mariner Energy Resources, Inc., Structure Removal, SEA ES/SR 13-114 | Vermilion, Block 35, Lease OCS-G 00549, located 8 miles from the nearest Louisiana shoreline | 22-Apr-13.
Apache Corporation, Structure Removal, SEA ES/SR 13-111 | West Cameron, Block 293, Lease OCS-G 04398, located 28 miles from the nearest Louisiana shoreline | 22-Apr-13.
Apache Corporation, Structure Removal, SEA ES/SR 13-112 | West Cameron, Block 293, Lease OCS-G 04398, located 29 miles from the nearest Louisiana shoreline | 22-Apr-13.
Apache Corporation, Structure Removal, SEA ES/SR 13-110 | West Cameron, Block 294, Lease OCS-G 04090, located 28 miles from the nearest Louisiana shoreline | 22-Apr-13.
Apache Corporation, Structure Removal, SEA ES/SR 13-118 | Eugene Island, Block 189, Lease OCS-G 00423, located 32 miles from the nearest Louisiana shoreline | 23-Apr-13.
Hilcorp Energy GOM, LLC, Structure Removal, SEA ES/SR 13-116 | Vermilion, Block 39, Lease OCS 00206, located 10 miles from the nearest Louisiana shoreline | 23-Apr-13.
Eni US Operating Co. Inc., Exploration Plan, SEA N-9683 | Mississippi Canyon, Block 214, Lease OCS-G 24059, located 62 miles from the nearest shoreline in Plaquemines Parish, Louisiana | 02-May-13.
EPL Oil & Gas, Inc., Structure Removal, SEA ES/SR 07-128 | East Cameron, Block 161, Lease OCS-G 15141, located 44 miles from the nearest Louisiana shoreline | 07-May-13.
LLOG Exploration Offshore, L.L.C., Exploration Plan, SEA N-9690 | Mississippi Canyon, Block 208, Lease OCS-G 32303, located 46 miles from the nearest shoreline in Plaquemines Parish, Louisiana | 07-May-13.
Mariner Energy Resources, Inc., Structure Removal, SEA ES/SR 13-117 | West Cameron, Block 110, Lease OCS 00081, located 17 miles from the nearest Louisiana shoreline | 07-May-13.
Stone Energy Corporation, Structure Removal, SEA ES/SR 13-120 | West Cameron, Block 45, Lease OCS 00299, located 7 miles from the nearest shoreline | 07-May-13.
CGG Veritas Services (US) Inc., Geological & Geophysical Survey, SEA L13-015 | Central and Western Planning Areas of the Gulf of Mexico | 08-May-13.
Apache Corporation, Structure Removal, SEA ES/SR 13-123 | Ship Shoal, Block 126, Lease OCS-G 12940, located 25 miles from the nearest Louisiana shoreline | 08-May-13.
Stone Energy Corporation, Structure Removal, SEA ES/SR 13-121 | West Cameron, Block 166, Lease OCS-G 05549, located 27 miles from the nearest Louisiana shoreline | 08-May-13.
Stone Energy Corporation, Structure Removal, SEA ES/SR 13-122 | West Cameron, Block 45, Lease OCS 00299, located 7 miles from the nearest Louisiana shoreline | 08-May-13.
Apache Corporation, Structure Removal, SEA ES/SR 13-082 | Eugene Island, Block 296, Lease OCS-G 02105, located 60 miles from the nearest Louisiana shoreline | 13-May-13.
Stone Energy Corporation, Structure Removal, SEA ES/SR 2006-156 | West Cameron, Block 220, Lease OCS-G 03323, located 63 miles from the nearest Louisiana shoreline | 15-May-13.
LLOG Exploration Offshore, L.L.C., Exploration Plan, SEA R-5876 | Mississippi Canyon, Block 300, OCS Lease OCS- G 22868, located 56 miles from the nearest Louisiana shoreline | 16-May-13.
Anadarko Petroleum Corporation, Exploration Plan, SEA S-7604 | Green Canyon, Block 768, Lease OCS-G 21817, located south of Morgan City, Louisiana, 125 miles from the nearest shoreline in Terrebonne Parish, Louisiana | 17-May-13.
EMGS Americas, Geological & Geophysical Survey, SEA L13-012 | Central Planning Area of the Gulf of Mexico | 21-May-13.
Anadarko Petroleum Corporation, Structure Removal, SEA ES/SR 2013-078 | Garden Banks, Block 876, Lease OCS-G 23338, located 146 miles from the nearest Louisiana shoreline | 21-May-13.
CGG Veritas Services (US) Inc., Geological & Geophysical Survey, SEA L13-019 | Central Planning Area of the Gulf of Mexico | 23-May-13.
Arena Offshore, LP, Structure Removal, SEA ES/SR 12-323 | Eugene Island, Block 318, Lease OCS-G 27121, located 63 miles from the nearest Louisiana shoreline | 23-May-13.
Apache Deepwater LLC, Exploration Plan, SEA R-5880 | Green Canyon, Block 274, Lease OCS-G 33241, located 100 miles from the nearest Louisiana shoreline | 23-May-13.
Merit Energy Company, LLC, Structure Removal, SEA ES/SR 12-13.6 | Galveston, Block 252, Lease OCS-G 11307, located 13 miles from the nearest Texas shoreline | 28-May-13.
Anadarko Petroleum Corporation, Exploration Plan, SEA S-7593 | Lloyd Ridge, Block 317, Lease OCS-G 31834, located 136 miles from the nearest shoreline in Plaquemines Parish, Louisiana | 28-May-13.
Stone Energy Corporation, Structure Removal, SEA ES/SR 13-124 | South Timbalier, Block 143, Lease OCS-G 06767, located 31 miles from the nearest Louisiana shoreline | 28-May-13.
Stone Energy Corporation, Structure Removal, SEA ES/SR 13-13.0 | West Cameron, Block 19, Lease OCS 00073, located 26 miles from the nearest Louisiana shoreline | 28-May-13.
Badger Oil Corporation, Structure Removal, SEA ES/SR 13-030 | West Cameron, Block 240, Lease OCS-G 27008, located 42 miles from the nearest Louisiana shoreline | 28-May-13.
Petrobas America Inc., Exploration Plan, SEA N-9674 | Mississippi Canyon, Block 697, Lease OCS-G 34019, located 77 miles from the nearest Louisiana shoreline | 29-May-13.
Chevron U.S.A. Inc., Structure Removal, SEA ES/SR 13-13.2 | South Marsh Island, Block 236, Lease OCS-G 00310, located 12 miles from the nearest Louisiana shoreline | 29-May-13.
Stone Energy Corporation, Structure Removal, SEA ES/SR 13-129 | South Pelto, Block 15, Lease OCS-G 09652, located 10 miles from the nearest Louisiana shoreline | 29-May-13.
Chevron U.S.A. Inc. Structure Removal, SEA ES/SR 11-028 | South Marsh, Block 217, Lease OCS-G 00310, located 7 miles from the nearest Louisiana shoreline | 30-May-13.
Black Elk Energy Offshore Operations, LLC, Structure Removal, SEA ES/SR 13-125 | Galveston, Block 389, Lease OCS-G 17133, located 29 miles from the nearest Texas shoreline | 31-May-13.
Apache Deepwater LLC, Exploration Plan, SEA N-9678 | Mississippi Canyon, Block 983, Lease OCS-G 34468, located 66 miles from the nearest shoreline in Plaquemines Parish, Louisiana | 31-May-13.
Apache Deepwater LLC, Exploration Plan, SEA N-9702 | Mississippi Canyon, Block 554, Lease OCS-G 34444, & Block 555, Lease OCS-G 34445, located 50 miles from the nearest shoreline in Plaquemines Parish, Louisiana | 03-Jun-13.
Hall-Houston Exploration II, L.P., Structure Removal, SEA ES/SR 13-127 | Galveston, Block 151, Lease OCS-G 15740, located 9 miles from the nearest Texas shoreline | 04-Jun-13.
Merit Energy Company, LLC, Structure Removal, SEA ES/SR 12-13.9 | East Cameron, Block 23, Lease OCS-G 02853, located 5 miles from the nearest Louisiana shoreline | 06-Jun-13.
Exxon Mobil Corporation, Exploration Plan, SEA N-9713 | Walker Ridge, Block 282, Lease OCS-G 33364, located 162 miles from the nearest Louisiana shoreline | 06-Jun-13.
Northstar Offshore Group, LLC, Structure Removal, SEA ES/SR 13-13.4 | West Cameron, Block 132, Lease OCS-G 27003, located 20 miles from the nearest Louisiana shoreline | 07-Jun-13.
Stone Energy Corporation, Structure Removal, SEA ES/SR 98-078 | Eugene Island, Block 243, Lease OCS-G 02899, located 56 miles from the nearest Louisiana shoreline | 10-Jun-13.
Merit Energy Company, LLC, Structure Removal, SEA ES/SR 04-116 | High Island, Block A270, Lease OCS-G 26556, located 83 miles from the nearest Louisiana shoreline | 11-Jun-13.
Anadarko Petroleum Corporation, Exploration Plan, SEA S-7606 | Keathley Canyon, Block 919, Lease OCS-G 21447, located 215 miles from the nearest shoreline in Terrebonne Parish, Louisiana | 11-Jun-13.
ConocoPhillips Company, Exploration Plan, SEAR-5885 | Walker Ridge, Block 460, Lease OCS-G 32688, located 174 miles from the nearest Louisiana shoreline | 11-Jun-13.
Fairfield Nodal, Geological & Geophysical Survey, SEA L13-001 | Central Planning Area of the Gulf of Mexico | 17-Jun-13.
Shell Offshore Inc., Exploration Plan, SEA R-5890 | Central Planning Area of the Gulf of Mexico | 21-Jun-13.
LLOG Exploration Offshore, L.L.C., Exploration Plan SEA N-9709 | Mississippi Canyon, Block 816, Lease OCS-G 33178, located 55 miles from the nearest shoreline in Plaquemines Parish, Louisiana | 21-Jun-13.
TGS, Geological & Geophysical Survey, SEA L13-016 | Central Planning Area of the Gulf of Mexico | 25-Jun-13.
Stone Energy Corporation, Exploration Plan, SEA N-9706 | Alaminos Canyon, Block 943, Lease OCS-G 31205, located 134 miles from the nearest shoreline in Cameron County, Texas | 26-Jun-13.
Nexen Petroleum U.S.A. Inc., Structure Removal, SEA ES/SR 2013-13.6, 137, & 138 | Vermilion, Block 67, Lease OCS-G 00559, located 14 miles from the nearest Louisiana shoreline | 26-Jun-13.
Anadarko Petroleum Corporation, Structure Removal, SEA ES/SR 11-224 & 225 | West Cameron, Block 181, Lease OCS-G 01971, located 27 miles from the nearest Louisiana shoreline | 26-Jun-13.

Persons interested in reviewing environmental documents for the proposals listed above or obtaining information about the SEAs and FONSIs prepared by the Gulf of Mexico OCS Region are encouraged to contact BOEM at the address or telephone listed in the FOR FURTHER INFORMATION CONTACT section.

Dated: July 12, 2013.
David Cooke,
Acting Regional Director, Gulf of Mexico OCS Region.

[FR Doc. 2013-19097 Filed 8-5-13; 8:45 am]

BILLING CODE 4310-MR-P